ENVIRONMENTAL PROTECTION AGENCY

[FRL-9246-2]

Proposed Settlement Agreement

AGENCY: Environmental Protection Agency (EPA).

ACTION: Notice of Proposed Settlement Agreement; Request for Public Comment.

SUMMARY: In accordance with section 113(g) of the Clean Air Act, 42 U.S.C. 7413(g), notice is hereby given of a proposed settlement agreement to address lawsuits filed by the following groups of Petitioners: (1) The States of New York, California, Connecticut, Delaware, Maine, New Hampshire, New Mexico, Oregon, Rhode Island, Vermont, and Washington, the Commonwealth of Massachusetts, the District of Columbia, and the City of New York (collectively “State Petitioners”); and (2) Natural Resources Defense Council, Sierra Club, and Environmental Integrity Project (collectively “Environmental Petitioners”). State and Environmental Petitioners filed their lawsuits in the United States Court of Appeals for the District of Columbia Circuit, which were consolidated under the lead case American Petroleum Institute, et al. v. EPA, No. 08-1277 (DC Cir.). Petitioners filed petitions for review of EPA's final rule entitled “Standards of Performance for Petroleum Refineries,” published at 73 FR 35838 (June 24, 2008). The proposed settlement agreement establishes deadlines for EPA's proposed and final actions for meeting its obligations in the agreement.

DATES: Written comments on the proposed settlement agreement must be received by January 31, 2011.

ADDRESSES: Submit your comments, identified by Docket ID number EPA-HQ-OGC-2010-1045, online at http://www.regulations.gov (EPA's preferred method); by e-mail to oei.docket@epa.gov; by mail to EPA Docket Center, Environmental Protection Agency, Mailcode: 2822T, 1200 Pennsylvania Ave., NW., Washington, DC 20460-0001; or by hand delivery or courier to EPA Docket Center, EPA West, Room 3334, 1301 Constitution Ave., NW., Washington, DC, between 8:30 a.m. and 4:30 p.m. Monday through Friday, excluding legal holidays. Comments on a disk or CD-ROM should be formatted in Word or ASCII file, avoiding the use of special characters and any form of encryption, and may be mailed to the mailing address above.

FOR FURTHER INFORMATION CONTACT: Susan Stahle, Air and Radiation Law Office (2344A), Office of General Counsel, U.S. Environmental Protection Agency, 1200 Pennsylvania Ave., NW., Washington, DC 20460; telephone: (202) 564-1272; fax number (202) 564-5603; e-mail address: stahle.susan@epa.gov.

SUPPLEMENTARY INFORMATION:

I. Additional Information About the Proposed Settlement Agreement

The State and Environmental Petitioners filed petitions for judicial review of the final rule promulgated under the Clean Air Act (“CAA”) section 111, 42 U.S.C. 7411, entitled, “Standards of Performance for Petroleum Refineries, Final Rule,” published at 73 FR 35838 (June 24, 2008). These petitions for review currently are pending before the U.S. Court of Appeals for the District of Columbia Circuit in consolidated cases under the lead case American Petroleum Institute, et al. v. EPA, No. 08-1277. The Final Rule includes amendments to the current standards of performance (40 CFR part 60, subpart J) and separate standards of performance for new process units (40 CFR part 60, subpart Ja) at petroleum refineries. In connection with this Final Rule, EPA declined to establish standards of performance for greenhouse gas emissions (“GHGs”).

The Environmental Petitioners also filed a petition for administrative reconsideration pursuant to CAA section 307(d)(7)(B), 42 U.S.C. 7607(d)(7)(B), and EPA granted reconsideration with respect to some of the issues raised in that petition for reconsideration. 73 FR 55751 (Sept. 26, 2008). On December 22, 2008, EPA published a proposed rule concerning issues that were raised in the Environmental Petitioners' administrative petition for reconsideration. 73 FR 78522 (Dec. 22, 2008). On December 29, 2009, EPA granted reconsideration of all remaining issues that were raised in the petitions for administrative reconsideration, including the failure to regulate GHGs.

Under the terms of the proposed settlement agreement, within 3 business days after this Settlement Agreement is executed, the Parties shall file a joint motion with the Court notifying it of this agreement and requesting that the Petitioners' petitions for review be held in abeyance pending completion of the process under CAA section 113(g) as set forth in the agreement. Also pursuant to the proposed settlement agreement, EPA shall sign a proposed rule by December 10, 2011, that includes at a minimum, the following: (A) Standards of performance for GHGs pursuant to CAA section 111(b), 42 U.S.C. 7411(b), for affected facilities at refineries that are subject to the following NSPS: (1) Subparts J and Ja, (2) subpart Db, (3) subpart Dc, (4) subpart GGG, and (5) subpart QQQ, and emissions guidelines for GHGs pursuant to CAA section 111(d), 42 U.S.C. 7411(d), and 40 CFR 60.22, from existing affected facilities at refineries in the source categories covered by those NSPS subparts; (B) a review of the emission standards set forth in 40 CFR Part 63, subpart UUU, pursuant to CAA sections 112(d)(6) and (f)(2), 42 U.S.C. 7412(d)(6) and (f)(2); and (C) a resolution of all other issues raised in Environmental Petitioners' August 25, 2008 petition for administrative reconsideration. EPA shall sign a final rule by November 10, 2012, that includes final determinations with regard to each of the elements in the proposed rule. If EPA fulfills its obligations, the State and Environmental Petitioners shall, no later than 5 business days after the date on which that final rule takes effect, file an appropriate pleading seeking the dismissal of Petitions for Review Nos. 08-1279 and 08-1281, with prejudice, in accordance with Rule 42(b) of the Federal Rules of Appellate Procedure.

For a period of thirty (30) days following the date of publication of this notice, the Agency will accept written comments relating to the proposed settlement agreement from persons who are not named as parties or intervenors to the litigation in question. EPA or the Department of Justice may withdraw or withhold consent to the proposed settlement agreement if the comments disclose facts or considerations that indicate that such consent is inappropriate, improper, inadequate, or inconsistent with the requirements of the Act. Unless EPA or the Department of Justice determines that consent to this settlement agreement should be withdrawn, the terms of the agreement will be affirmed.

II. Additional Information About Commenting on the Proposed Settlement Agreement

A. How can I get a copy of the settlement agreement?

The official public docket for this action (identified by Docket ID No. EPA-HQ-OGC-2010-1045) contains a copy of the proposed settlement agreement. The official public docket is available for public viewing at the Office of Environmental Information (OEI) Docket in the EPA Docket Center, EPA West, Room 3334, 1301 Constitution Ave., NW., Washington, DC. The EPA Docket Center Public Reading Room is open from 8:30 a.m. to 4:30 p.m., Monday through Friday, excluding legal holidays. The telephone number for the Public Reading Room is (202) 566-1744, and the telephone number for the OEI Docket is (202) 566-1752.

An electronic version of the public docket is available through http://www.regulations.gov. You may use the http://www.regulations.gov to submit or view public comments, access the index listing of the contents of the official public docket, and to access those documents in the public docket that are available electronically. Once in the system, key in the appropriate docket identification number then select “search”.

It is important to note that EPA's policy is that public comments, whether submitted electronically or in paper, will be made available for public viewing online at http://www.regulations.gov without change, unless the comment contains copyrighted material, CBI, or other information whose disclosure is restricted by statute. Information claimed as CBI and other information whose disclosure is restricted by statute is not included in the official public docket or in the electronic public docket. EPA's policy is that copyrighted material, including copyrighted material contained in a public comment, will not be placed in EPA's electronic public docket but will be available only in printed, paper form in the official public docket. Although not all docket materials may be available electronically, you may still access any of the publicly available docket materials through the EPA Docket Center.

B. How and to whom do I submit comments?

You may submit comments as provided in the ADDRESSES section. Please ensure that your comments are submitted within the specified comment period. Comments received after the close of the comment period will be marked “late.” EPA is not required to consider these late comments.

If you submit an electronic comment, EPA recommends that you include your name, mailing address, and an e-mail address or other contact information in the body of your comment and with any disk or CD ROM you submit. This ensures that you can be identified as the submitter of the comment and allows EPA to contact you in case EPA cannot read your comment due to technical difficulties or needs further information on the substance of your comment. Any identifying or contact information provided in the body of a comment will be included as part of the comment that is placed in the official public docket, and made available in EPA's electronic public docket. If EPA cannot read your comment due to technical difficulties and cannot contact you for clarification, EPA may not be able to consider your comment.

Use of the http://www.regulations.gov Web site to submit comments to EPA electronically is EPA's preferred method for receiving comments. The electronic public docket system is an “anonymous access” system, which means EPA will not know your identity, e-mail address, or other contact information unless you provide it in the body of your comment. In contrast to EPA's electronic public docket, EPA's electronic mail (e-mail) system is not an “anonymous access” system. If you send an e-mail comment directly to the Docket without going through http://www.regulations.gov, your e-mail address is automatically captured and included as part of the comment that is placed in the official public docket, and made available in EPA's electronic public docket.

Dated: December 23, 2010.
Patricia A. Embrey,
Acting Associate General Counsel.

[FR Doc. 2010-32929 Filed 12-29-10; 8:45 am]

BILLING CODE 6560-50-P